NATIONAL COUNCIL ON DISABILITY

National Council on Disability; Meeting

TIME AND DATES: The Members of the National Council on Disability (NCD) will meet via conference call Monday, May 18, 2020, 10:00 a.m.-12:00 p.m., EDT. Interested parties may join the meeting in listen-only capacity. Call-In Number: 888-204-4368; Passcode: 5084239, Host Name: Neil Romano.

MATTERS TO BE CONSIDERED: The Council conduct a business meeting, to include approving the revised budget for fiscal year 2020.

AGENDA: The times provided below are approximations for when each agenda item is anticipated to be discussed (all times Eastern Daylight Time):

Monday, May 18, 2020

10:00 a.m.-10:10 a.m.—Welcome and Call to Order, Chairman Neil Romano

Roll Call: Council Members

Roll Call: Staff

Call for Vote on Acceptance of Agenda

Call for Vote of January 2020 Council Meeting Minutes

10:10 a.m.-11:10 a.m.—Executive Reports

Chairman's Report, Neil Romano, Chairman

Executive Report, Lisa Grubb, Executive Director and CEO

Financial Report, Keith Woods, Financial Management Analyst

Call for Vote on Fiscal Year 2020 revised budget, Wendy S. Harbour, Council Member

Governance Report, Billy Altom, Council Member

Legislative Affairs Report, Anne Sommer, Director of Legislative Affairs and Outreach

Policy Report, Joan Durocher, Director of Policy and General Counsel

11:10 a.m.-11:40 a.m.—Public Comment

11:40 a.m.-12:00 p.m.—Unfinished and New Business

12:00 p.m.—Call for Motion to Adjourn

CONTACT PERSON FOR MORE INFORMATION: Anne Sommers, NCD, 1331 F Street NW, Suite 850, Washington, DC 20004; 202-272-2004 (V), 202-272-2022 (Fax).

Accommodations: A CART streamtext link has been arranged for this meeting. The web link to access CART on Monday, May 18, 2020 is: http://www.streamtext.net/player?event=NCD-TELECONFERENCE.

Dated: April 21, 2020.
Sharon M. Lisa Grubb,
Executive Director and CEO.

[FR Doc. 2020-08807 Filed 4-24-20; 8:45 am]

BILLING CODE 8421-02-P